NUCLEAR REGULATORY COMMISSION

[NRC-2013-0146]

Biweekly Notice; Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from June 13, 2013 to June 26, 2013. The last biweekly notice was published on June 25, 2013 (78 FR 38078).

ADDRESSES: You may submit comment by any of the following methods (unless this document describes a different method for submitting comments on a specific subject):

• Federal Rulemaking Web site: Go to http://www.regulations.gov and search for Docket ID NRC-2013-0146. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN-06A-44MP, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0146 when contacting the NRC about the availability of information regarding this document. You may access information related to this document, which the NRC possesses and is publicly-available, by the following methods:

• Federal Rulemaking Web site: Go to http://www.regulations.gov and search for Docket ID NRC-2013-0146.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0146 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Duke Energy Carolinas, LLC, Docket Nos. 50-269, 50-270, and 50-287, Oconee Nuclear Station, Units 1, 2, and 3, Oconee County, South Carolina

Date of amendment request: April 26, 2013.

Description of amendment request: The proposed amendments would revise a Technical Specification (TS) surveillance requirement to verify that acceptable steady-state limits on the electrical frequency are achieved by the two Keowee Hydro Units (KHUs), which are the emergency power sources for the Oconee Nuclear Station.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment adds a new Technical Specification surveillance requirement to verify that the emergency power sources, KHUs, for the Oconee Nuclear Station achieve a steady state frequency of > 59.4 Hz and < 61.8 Hz. The proposed TS change implements a requirement already established by Selected Licensee Commitment (SLC) 16.8.5. The equipment used to collect steady state frequency data has been evaluated and will not affect the operation of the KHUs. Since the KHUs are not initiators of any accidents previously evaluated, the proposed change does not involve a significant increase in the probability of an accident previously evaluated. Since the performance of the surveillance has no effect on KHU operation, it does not involve a significant increase in the consequences of an accident previously evaluated.

Therefore, the proposed TS changes do not significantly increase the probability or consequences of an accident previously evaluated.

2. Does the proposed amendment create the possibility of a new or different kind of accident from any accident previously evaluated?

Response: No.

The proposed change adds a new TS Surveillance Requirement. Performance of the surveillance has no effect on the operation of the KHUs. The changes do not alter the plant configuration (no new or different type of equipment will be installed) or make changes in methods governing normal plant operation. No installed equipment is being operated in a different manner. As such, the proposed change does not create the possibility of a new or different kind of accident from any accident previously evaluated.

3. Does the proposed amendment involve a significant reduction in a margin of safety?

Response: No.

The proposed change adds a new TS Surveillance Requirement. The change provides an additional restriction to enhance plant safety. The change maintains requirements within the safety analyses and licensing basis. As such, no question of safety is involved.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 526 South Church Street—EC07H, Charlotte, NC 28202-1802.

NRC Branch Chief: Robert J. Pascarelli.

Southern Nuclear Operating Company, Inc. Docket Nos. 52-025 and 52-026, Vogtle Electric Generating Plant, Units 3 and 4, Burke County, Georgia

Date of amendment request: April 25, 2013.

Description of amendment request: The proposed changes would amend Combined License numbers NPF-91 and NPF-92 for Vogtle Electric Generating Plant, Units 3 and 4 by departing from the plant-specific design control document Tier 2 and Tier 2* material related to fire area boundaries and contained within the updated final safety analysis report (UFSAR). The proposed changes would alter the layout of the Annex Building and Turbine Building, change Turbine Building Stairwell S08, and clarify a UFSAR figure of the Annex Building heating, ventilation, and air conditioning shafts.

Basis for proposed no significant hazards consideration determination: As required by 10 CFR 50.91(a), the licensee has provided its analysis of the issue of no significant hazards consideration, which is presented below:

1. Does the proposed amendment involve a significant increase in the probability or consequences of an accident previously evaluated?

Response: No.

The proposed Annex Building and Turbine Building layout changes, Turbine Building stairwell changes to support egress functions, and an Annex Building ventilation shaft Updated Final Safety Analysis Report (UFSAR) figure clarification would not affect any safety-related equipment or function. The modified configurations would continue to maintain the associated fire protection (i.e., barrier) functions. The safe shutdown fire analysis is not affected, and the fire protection analysis results remain acceptable. The affected rooms and equipment do not contain or interface with safety-related equipment. The proposed changes do not involve any accident initiating event, thus the probabilities of the accidents previously evaluated are not affected. The affected rooms do not represent a radioactive material barrier, and this activity does not involve the containment of radioactive material. The radioactive material source terms and release paths used in the safety analyses are unchanged, thus the radiological releases in the accident analyses are not affected.

Therefore, the consequences of an accident previously evaluated are not affected. Therefore, the proposed amendment does not involve a significant increase in the probability or consequences of an accident previously evaluated.

2. Does the proposed amendment create the possibility of a new or different kind of accident from any accident previously evaluated?

Response: No.

The proposed Annex Building and Turbine Building layout changes, Turbine Building stairwell changes to support egress functions, and an Annex Building ventilation shaft UFSAR figure clarification would not change the performance of the fire barriers. Fire zone loadings and associated fire analyses remain within their acceptance limits. The affected rooms do not contain equipment whose failure could initiate an accident. The affected rooms and associated equipment do not interface with components that contain radioactive material. The fire boundary changes do not create a new fault or sequence of events that could initiate a new kind of accident or result in a radioactive material release.

Therefore, the proposed amendment does not create the possibility of a new or different kind of accident.

3. Does the proposed amendment involve a significant reduction in a margin of safety?

Response: No

The proposed Annex Building and Turbine Building layout changes, Turbine Building stairwell changes to support egress functions, and an Annex Building ventilation shaft UFSAR figure clarification would not change the fire protection performance of any fire barrier. No safety or fire requirement acceptance criterion would be exceeded or challenged. The safe shutdown fire analysis is not affected. No safety-related equipment, area or function is involved. The amounts of combustible material loadings in the affected fire zones remain within their applicable limits. The proposed fire boundary changes comply with existing design codes and regulatory criteria, and do not affect any safety analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Blach & Bingham LLP, 1710 Sixth Avenue North, Birmingham, AL 35203-2015.

NRC Branch Chief: Lawrence Burkhart.

Virginia Electric and Power Company, Docket Nos. 50-280 and 50-281, Surry Power Station, Units 1 and 2, Surry County, Virginia

Date of amendment request: May 13, 2013.

Description of amendment request: The proposed amendments request revision of TS 4.17, “Shock Suppressors (Snubbers),” and the TS 4.17 Bases, as well as addition of TS 6.4.T, “Inservice Examination, Testing, and Service Life Monitoring Program for Snubbers.” The proposed change will revise the TS surveillance requirements for snubbers to be in accordance with ASME OM Code, Subsection ISTD, and will relocate the surveillance requirements to the Surry Units 1 and 2 Inservice Examination, Testing, and Service Life Monitoring Program Plans for Snubbers.

Basis for proposed no significant hazards consideration determination: As required by 10 CFR 50.91(a), the licensee has provided its analysis of the issue of no significant hazards consideration, which is presented below:

1. Does the proposed change involve a significant increase in the probability or consequences of an accident previously evaluated?

Response: No.

The proposed change revises TS 4.17 to conform the TS to the revised snubber program and relocates the surveillance requirements to the Inservice Examination, Testing, and Service Life Monitoring Program for Snubbers. Snubber examination, testing and service life monitoring will meet the requirements of the ASME OM Code Subsection ISTD as allowed by 10 CFR 50.55a(b)(3)(v).

Snubber examination, testing, and service life monitoring are not initiators of any accident previously evaluated. Therefore, the probability of an accident previously evaluated is not significantly increased.

Snubber operability will continue to be demonstrated by performance of a program for examination, testing, and service life monitoring in compliance with 10 CFR 50.55a. Therefore, the proposed change does not adversely affect plant operations, design functions or analyses that verify the capability of systems, structures, and components to perform their design functions. The consequences of accidents previously evaluated are not significantly increased.

Therefore, the proposed change does not involve a significant increase in the probability or consequences of an accident previously evaluated.

2. Does the proposed change create the possibility of a new or different kind of accident from any accident previously evaluated?

Response: No.

The proposed change does not involve any physical alteration of plant equipment. The proposed change does not change the method by which any safety-related system performs its function. As such, no new or different types of equipment will be installed, and the basic operation of installed equipment is unchanged. The methods governing plant operation and testing remain consistent with current safety analysis assumptions.

Therefore, the proposed change does not create the possibility of a new or different kind of accident from any previously evaluated.

3. Does the proposed change involve a significant reduction in a margin of safety?

Response: No.

The proposed change ensures snubber examination, testing, and service life monitoring will meet the requirements of the ASME OM Code Subsection ISTD as allowed by 10 CFR 50.55a(b)(3)(v). Snubbers will continue to be demonstrated operable by performance of a program for examination, testing, and service life monitoring in compliance with 10 CFR 50.55a.

The schedule for subsequent 10-year updates to the Surry snubber program will coincide with 10-year updates to the Surry IST program. The need to perform the 10-year update for the Surry snubber program is required by 10 CFR 50.55a(g).

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar St., RS-2, Richmond, VA 23219.

NRC Branch Chief: Robert J. Pascarelli.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Exelon Generation Company, LLC, and PSEG Nuclear LLC, Docket Nos. 50-277 and 50-278, Peach Bottom Atomic Power Station, Units 2 and 3, York and Lancaster Counties, Pennsylvania

Date of application for amendments: August 29, 2012, as supplemented by letters dated January 31, 2013, and April 26, 2013.

Brief description of amendments: The amendments add Technical Specification (TS) requirements for the Residual Heat Removal Drywell Spray function.

Date of issuance: June 18, 2013.

Effective date: As of the date of issuance, to be implemented within 60 days.

Amendments Nos.: 288 and 291.

Renewed Facility Operating License Nos. DPR-44 and DPR-56: The amendments revised the License and TSs.

Date of initial notice in Federal Register: October 30, 2012 (77 FR 65723).

The letters dated January 31, 2013, and April 26, 2013, provided clarifying information that did not change the initial proposed no significant hazards consideration determination or expand the application beyond the scope of the original Federal Register notice.

The Commission's related evaluation of the amendments is contained in a Safety Evaluation dated June 18, 2013.

No significant hazards consideration comments received: No.

Exelon Generation Company, LLC, Docket Nos. STN 50-456 and STN 50-457, Braidwood Station, Units 1 and 2, Will County, Illinois

Exelon Generation Company, LLC, Docket Nos. STN 50-454 and STN 50-455, Byron Station, Units 1 and 2, Ogle County, Illinois

Exelon Generation Company, LLC, Docket No. 50-461, Clinton Power Station, Unit 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-352 and 50-353, Limerick Generating Station, Units 1 and 2, Montgomery County, Pennsylvania

Exelon Generation Company, LLC, et al., Docket No. 50-219, Oyster Creek Nuclear Generating Station, Ocean County, New Jersey

Exelon Generation Company, LLC, and PSEG Nuclear LLC, Docket Nos. 50-277 and 50-278, Peach Bottom Atomic Power Station, Units 2 and 3,York and Lancaster Counties, Pennsylvania

Exelon Generation Company, LLC, Docket Nos. 50-254 and 50-265, Quad Cities Nuclear Power Station, Units 1 and 2, Rock Island County, Illinois

Exelon Generation Company, LLC, Docket No. 50-289, Three Mile Island Nuclear Station, Unit 1 (TMI-1), Dauphin County, Pennsylvania

Date of application for amendments: July 6, 2012.

Brief description of amendments: The proposed amendment would revise TS 5.3.1/6.3.1, “Unit (Facility) Staff Qualifications,” to remove operator license applicant education and experience requirements and add the requirement that Licensed Operators shall comply with part 55 of Title 10 of the Code of Federal Regulations (10 CFR).

Date of issuance: June 17, 2013.

Effective date: As of the date of issuance and shall be implemented within 30 days.

Amendment Nos.: 173, 180, 200, 240, 233, 206, 193, 210, 171, 281, 289, 292, 251, 246 and 280.

Facility Operating License Nos.: NPF-72, NPF-77, NPF-37, NPF-66, NPF-62, DPR-19, DPR-25, NPF-11, NPF-18, NPF-39, NPF-85, DPR-16, DPR-44, DPR-56, DPR-29, DPR-30, DPR-50: The amendments revised the Technical Specifications/Licenses.

Date of initial notice in Federal Register: August 21, 2012.

The Commission's related evaluation of the amendments is contained in a Safety Evaluation dated June 17, 2013.

No significant hazards consideration comments received: No.

Florida Power and Light Company, et al., Docket Nos. 50-335 and 50-389, St. Lucie Plant, Units 1 and 2, St. Lucie County, Florida

Date of application for amendment: August 10, 2012, supplemented by letter dated February 13, 2013.

Brief description of amendment: The amendments revised the technical specifications (TSs), specifically, the requirements of the TSs related to station direct current battery surveillance requirements for terminal connection resistances.

Date of issuance: June 18, 2013.

Effective date: As of the date of issuance and shall be implemented within 90 days.

Amendment Nos.: 215 and 165.

Facility Operating License Nos. DPR-77 and DPR-79: Amendments revised the License and TSs.

Date of initial notice in Federal Register: October 30, 2012 (77 FR 65724). The supplement letter dated February 13, 2013, provided additional information that clarified the application, did not expand the scope of the application as originally noticed, and did not change the staff's original proposed no significant hazards consideration determination.

The Commission's related evaluation of the amendment is contained in a Safety Evaluation dated June 18, 2013.

No significant hazards consideration comments received: No.

Nebraska Public Power District, Docket No. 50-298, Cooper Nuclear Station, Nemaha County, Nebraska

Date of amendment request: June 25, 2012, as supplemented by letter dated March 27, 2013.

Brief description of amendment: The amendment revised the description of the Fuel Handling Accident (FHA) in Section XIV-6.4 of the Cooper Nuclear Station Updated Safety Analysis Report (USAR). The revised USAR FHA description is based on changes to the Design Basis Accident FHA dose calculation, to reflect a 24-month cycle source term using a Global Nuclear Fuels (GNF) 10 x 10 fuel array, a reduced Radial Peaking Factor, and inclusion of a calculated shine contribution to the total dose.

Date of issuance: June 26, 2013.

Effective date: As of the date of issuance and shall be implemented within 30 days of issuance.

Amendment No.: 246.

Renewed Facility Operating License No. DPR-46: Amendment revised the Facility Operating License and the USAR.

Date of initial notice in Federal Register: April 16, 2013 (78 FR 22570). The supplemental letter dated March 27, 2013, provided additional information that clarified the application, did not expand the scope of the application as originally noticed, and did not change the staff's original proposed no significant hazards consideration determination as published in the Federal Register.

The Commission's related evaluation of the amendment is contained in a Safety Evaluation dated June 26, 2013.

No significant hazards consideration comments received: No.

NextEra Energy Seabrook, LLC, Docket No. 50-443, Seabrook Station, Unit 1, Rockingham County, New Hampshire

Date of amendment request: March 1, 2013.

Description of amendment request: The amendment revised the Seabrook Technical Specifications (TS). The amendment deletes the TS Index and makes corrections to Seabrook TS 3.4.8, “Reactor Coolant System Specific Activity,” and TS 6.8.1.6.a, “Core Operating Limits Report.”

Date of issuance: June 17, 2013.

Effective date: As of its date of issuance and shall be implemented within 60 days.

Amendment No.: 137.

Facility Operating License No. NPF-86: The amendment revised the License and TS.

Date of initial notice in Federal Register: April 2, 2013 (78 FR 19752).

The Commission's related evaluation of the amendment is contained in a Safety Evaluation dated June 17, 2013.

No significant hazards consideration comments received: No.

PSEG Nuclear LLC, Docket No. 50-354, Hope Creek Generating Station, Salem County, New Jersey

Date of application for amendment: June 6, 2012.

Brief description of amendments: The amendment revised the Technical Specifications (TSs) to eliminate the requirements that the average power range monitoring (APRM) system “Upscale” and “Inoperative” scram and control rod withdrawal block functions be operable in Operational Condition (OPCON) 5, refueling operations.

Date of issuance: June 26, 2013.

Effective date: As of the date of issuance, to be implemented within 60 days.

Amendment No.: 194.

Facility Operating License No. NPF-57: The amendment revised the TSs.

Date of initial notice in Federal Register: March 19, 2013 (78 FR 16884).

The Commission's related evaluation of the amendment is contained in a Safety Evaluation dated June 26, 2013.

No significant hazards consideration comments received: No.

R.E. Ginna Nuclear Power Plant, LLC, Docket No. 50-244, R.E. Ginna Nuclear Power Plant, Wayne County, New York

Date of application for amendment: April 20, 2012.

Brief description of amendment: The Amendment revises the TS 3.1.7 to approve the use of an alternative method, other than the current method of the use of movable incore detectors system, to monitor the position of control rod or shutdown rod, in the event of a malfunction of the microprocessor rod position indication (MRPI) system. The use of this alternative method would reduce the required frequency of flux mapping using the movable incore detector system to determine the position of the control or shutdown rod position that is not being indicated. This will reduce the wear on the movable incore detector system that is also used to complete other required TS surveillances.

Date of issuance: June 25, 2013.

Effective date: As of the date of issuance to be implemented within 30 days.

Amendment No.: 114.

Renewed Facility Operating License No. DPR-18: Amendment revised the License and Technical Specifications.

Date of initial notice in Federal Register: April 16, 2013 (78 FR 22572).

The Commission's related evaluation of the amendment is contained in a Safety Evaluation dated June 25, 2013.

No significant hazards consideration comments received: No.

South Carolina Electric and Gas, Docket Nos. 52-027 and 52-028, Virgil C. Summer Nuclear Station (VCSNS) Units 3 and 4, Fairfield County, South Carolina

Date of amendment request: March 26, 2013.

Brief description of amendment: The amendment authorizes a departure from the Virgil C. Summer Nuclear Station Units 2 and 3 plant-specific Design Control Document (DCD) material incorporated into the Updated Final Safety Analysis Report (UFSAR) by revising the structural analysis requirements to provide alternative requirements for development of headed reinforcement bars (T-heads) within the nuclear island structures above the basemat elevation.

Date of issuance: June 6, 2013.

Effective date: As of the date of issuance and shall be implemented within 30 days of issuance.

Amendment No.: Unit 2-3, and Unit 3-3.

Facility Combined Licenses No. NPF-93 and NPF-94: Amendment revised the Facility Combined Licenses.

Date of initial notice in Federal Register: April 16, 2013 (78 FR 22563).

The Commission's related evaluation of the amendment is contained in a Safety Evaluation dated June 6, 2013.

No significant hazards consideration comments received: No.

Tennessee Valley Authority, Docket No. 50-390, Watts Bar Nuclear Plant (WBN), Unit 1, Rhea County, Tennessee

Date of application for amendment: June 13, 2012, as supplemented February 4, 2013.

Brief description of amendment: The proposed change will selectively implement an Alternate Source Term (AST) methodology in accordance with Regulatory Position 1.2.2 of Regulatory Guide (RG) 1.183, “Alternative Radiological Source Terms for Evaluating Design Basis Accidents at Nuclear Power Reactors,” by modifying the WBN, Unit 1 licensing basis for determining offsite and Control Room doses due to a Fuel Handling Accident (FHA). A license amendment is required for AST implementation in accordance with 10 CFR 50.67(b)(1).

Date of issuance: June 19, 2013.

Effective date: As of the date of issuance and shall be implemented no later than 60 days from date of issuance.

Amendment No.: 92.

Facility Operating License No. NPF-90: Amendment revised the License and TSs.

Date of initial notice in Federal Register: September 14, 2012 (77 FR 56882). The supplement dated February 4, 2013, provided additional information that clarified the application, did not expand the scope of the application as originally noticed, and did not change the staff's original proposed no significant hazards consideration determination as published in the Federal Register.

Tennessee Valley Authority (TVA), Docket No. 50-390, Watts Bar Nuclear Plant (WBN), Unit 1, Rhea County, Tennessee

Date of amendment Request: May 22, 2013, as supplemented June 12, 2013.

Brief description of amendment request: The amendment revised the WBN, Unit 1 Technical Specifications (TSs) to allow a one-time extension to the Completion Time for TS Limiting Condition for Operation 3.6.6 Required Action A. 1 from 72 hours to 7 days for an inoperable Containment Spray (CS) Train B. This change is necessary to provide sufficient time to replace a leaking mechanical seal on CS Pump 1B-B. The pump repair is currently scheduled for the week of June 24, 2013. TVA requested this proposed TS change under exigent circumstances that the NRC expedite the review of the requested change to support approval by June 22, 2013. The supplemental letter dated June 12, 2013, provided additional information but did not expand the scope of the request or change the staff's original proposed NSHC determination.

Date of issuance: June 22, 2013.

Effective date: June 24, 2013.

Amendment No.: 93.

Facility Operating License No. NPF-90: Amendment revised the TSs.

Public comments requested as to proposed no significant hazards consideration (NSHC): Yes. A notice was published in June 3, 2013; 78 FR 33117. The notice provided an opportunity to submit comments on the Commission's proposed NSHC determination. No comments have been received. The notice also provided an opportunity to request a hearing by August 2, 2013, but indicated that if the Commission makes a final NSHC determination, any such hearing would take place after the issuance of the amendment.

The Commission's related evaluation of the amendment, finding of exigent circumstances, state consultation, and final NSHC determination are contained in a safety evaluation dated June 22, 2013.

Attorney for licensee: General Counsel, Tennessee Valley Authority, 400 West Summit Hill Drive, ET 11A, Knoxville, Tennessee 37902.

NRC Branch Chief: Jessie F. Quichocho.

The Commission's related evaluation of the amendment is contained in a Safety Evaluation dated June 19, 2013.

No significant hazards consideration comments received: No.

Dated at Rockville, Maryland, this 28th day of June 2013.
For the Nuclear Regulatory Commission.
Michele G. Evans,
Director, Division of Operating Reactor Licensing, Office of Nuclear Reactor Regulation.

[FR Doc. 2013-16293 Filed 7-8-13; 8:45 am]

BILLING CODE 7590-01-P